ENVIRONMENTAL PROTECTION AGENCY

40 CFR Part 300

[FRL-6865-3]

National Oil and Hazardous Substances Pollution Contingency Plan; National Priorities List

AGENCY: Environmental Protection Agency.

ACTION: Notice of intent to delete the White Farm Equipment Site (Site) from the National Priorities List (NPL).

SUMMARY: The Environmental Protection Agency (EPA) Region VII announces the intent to delete the White Farm Equipment site from the National Priorities List (NPL) and requests public comment on this proposed action. The NPL constitutes appendix B of 40 CFR part 300 which is the National Oil and Hazardous Substances Pollution Contingency Plan (NCP), which EPA promulgated pursuant to section 105 of the Comprehensive Environmental Response, Compensation, and Liability Act (CERCLA) of 1980, as amended. The EPA and the state of Iowa have determined that the site poses no significant threat to public health or the environment, as defined by CERCLA. Five-year review reports will continue to be conducted.

DATES: Comments concerning the proposed deletion of this site from the NPL may be submitted on or before October 10, 2000.

ADDRESSES: Comments may be mailed to Catherine Barrett, Remedial Project Manager, Superfund Division, Missouri/Kansas Remedial Branch, U.S. Environmental Protection Agency, Region VII, 901 North 5th Street, Kansas City, KS 66101. Comprehensive information on this site is available through the public docket which is available for viewing at the U.S. EPA Region VII, Superfund Records Center, 901 North 5th Street, Kansas City, KS 66101.

FOR FURTHER INFORMATION CONTACT: Catherine Barrett, Remedial Project Manager, U.S. Environmental Protection Agency, 901 North 5th Street, Kansas City, KS 66101, phone (913) 551-7704, fax (913) 551-7063.

SUPPLEMENTARY INFORMATION:

Table of Contents

I. Introduction

II. NPL Deletion Criteria

III. Deletion Procedures

IV. Basis of Intended Site Deletion

I. Introduction

The EPA Region VII announces the intent to delete the White Farm Equipment site, Charles City, Iowa, from the NPL, and requests public comments on this proposed action. The NPL constitutes appendix B of 40 CFR part 300 which is the National Oil and Hazardous Substances Pollution Contingency Plan (NCP) which EPA promulgated pursuant to section 105 of the Comprehensive Environmental Response, Compensation, and Liability Act (CERCLA) of 1980, as amended by the Superfund Amendments and Reauthorization Act of 1986 (SARA). The EPA identifies sites that appear to present a significant risk to public health, welfare, or the environment and maintains the NPL as the list of these sites. The EPA and the Iowa Department of Natural Resources (IDNR) have determined that the remedial action for the site has been successfully executed.

The EPA will accept comments on the proposal to delete this site thirty (30) days after publication of this document in the Federal Register.

Section II of this document explains the criteria for deleting sites from the NPL. Section III discusses the procedures that EPA is using for this action. Section IV discusses the White Farm Equipment site and explains how the site meets the deletion criteria.

II. NPL Deletion Criteria

Section 300.425(e) of the NCP provides that sites may be deleted from the NPL where no further response is appropriate. In making a determination to delete a site from the NPL, EPA in consultation with the state, shall consider whether any of the following criteria has been met:

(i) Responsible parties or other persons have implemented all appropriate response actions required;

(ii) All appropriate Fund-financed response under CERCLA has been implemented, and no further response action by responsible parties is appropriate; or

(iii) The remedial investigation has shown that the release of hazardous substances poses no significant threat to public health or the environment and, therefore, remedial measures are not appropriate.

Even when a site is deleted from the NPL, where hazardous substances, pollutants, or contaminants remain at the site above levels that allow for unlimited use and unrestricted exposure, EPA's policy is that a subsequent review of the site will be conducted at least every five years after the initiation of the remedial action at the site to ensure that the site remains protective of human health and the environment. A five-year review was conducted for the White Farm Equipment site in 1999. Based on that review, EPA in consultation with the state, determined that conditions at the site remain protective of public health and the environment. If new information becomes available which indicates a need for further action, EPA may initiate remedial actions. Whenever there is a significant release from a site deleted from the NPL, the site shall be restored to the NPL without application of the Hazard Ranking System.

III. Deletion Procedures

The following procedures were used for the intended deletion of this site: (1) Responsible parties or other persons have implemented all appropriate response actions required; (2) The state of Iowa has concurred with the proposed deletion decision; (3) A notice has been published in the local newspaper and has been distributed to appropriate federal, state, and local officials and other interested parties announcing the commencement of a 30-day comment period on EPA's Notice of Intent to Delete; and (4) All relevant documents have been made available in the site information repository.

Deletion of the site from the NPL does not itself create, alter, or revoke any individual's rights or obligations. The NPL is designed primarily for informational purposes and to assist Agency management. As mentioned in Section II of this notice, section 300.425 (e) of the NCP states that the deletion of a site from the NPL does not preclude eligibility for future response actions. For deletion of this site, EPA's Regional Office will accept and evaluate public comments on EPA's Notice of Intent to Delete before making a final decision to delete. If necessary, the Agency will prepare a Responsiveness Summary to address any significant public comments received.

A deletion occurs when the Regional Administrator places a final notice in the Federal Register. The NPL will reflect deletions in the final update following the notice. Public notices and copies of the Responsiveness Summary will be made available to local residents by the Regional Office.

IV. Basis for Intended Site Deletion

The following site summary provides the Agency's rationale for the proposal to delete this site from the NPL.

Site Background and History

The White Farm Equipment site is located in Floyd County, Iowa, and is a 20-acre site, near the north border of Charles City, Iowa, and is owned by H.E. Construction, Inc. The site lies within the 100-year flood plain of the Cedar River in the former location of a sand and gravel quarry. The site borders farmlands to the west, north, and east. Residential areas lie to the south of the site. White Farm Equipment Company disposed of approximately 650,000 cubic yards of wet scrubber sludge, foundry sands, baghouse dusts, and other industrial wastes at the site on an intermittent basis beginning in 1971. Allied Products Corporation presently owns White Farm Equipment Company.

In 1984, the IDNR required White Farm Equipment Company, which was leasing the site, to install four groundwater monitoring wells at the site to determine whether adverse environmental impacts had occurred from the dumping activities. In 1985, the EPA performed a Preliminary Assessment (PA) of the site which suggested that lead, cadmium, and phenols may be among the contaminants of concern at the site. The EPA found wastes in contact with groundwater at a depth of five to ten feet. In 1986, EPA conducted sampling which documented lead and cadmium in the shallow alluvial aquifer in close proximity to the Charles City municipal wells.

The site was placed on the NPL on August 30, 1990. In 1990, a Remedial Investigation/Feasibility Study (RI/FS) was completed by Allied Products Corporation in accordance with the Consent Order issued by EPA pursuant to section 104 and 122 of CERCLA. Evaluation of information gathered in the RI/FS resulted in the selection of a remedy in the Record of Decision (ROD) in 1990.

Response Actions

The remedy in the ROD included upgrading of the landfill, installation of additional groundwater monitoring wells, placement of extraction wells, an air stripper and discharge conveyance to Hyers Creek, extraction, and treatment of contaminated groundwater until the concentration of benzene in groundwater is reduced and maintained below one part per billion (ppb), inspection and maintenance of perimeter fencing, cover, and groundwater treatment facility, and long-term groundwater monitoring.

A Consent Decree between EPA and Allied Products Corporation and H.E. Construction, Inc. was finalized in 1991 and provided for the implementation by the responsible parties of the design and construction of the remedy.

In February 1993, Allied Products Corporation sampled six existing monitoring wells which had been designated for re-sampling by the Consent Decree for benzene, lead, cadmium, and chromium. The wells are located to assess the groundwater quality at or within the point of compliance. A second round of samples was collected in March 1993. Both sampling events confirmed that no groundwater contamination existed in these wells. An Explanation of Significant Differences (ESD) was written by EPA which explained that the groundwater treatment included in the remedy would not be required because the groundwater sampling had not shown any contamination. The groundwater monitoring schedule was curtailed and changed to include a round of groundwater sampling five years after the start of final cover construction and thereafter at five-year intervals. Certain monitoring wells not needed for the long-term monitoring were abandoned and plugged. Upgrading of the landfill cover was completed during 1994, and a final inspection was conducted in June 1995.

Clean-Up Goals

The five-year review was completed in September 1999 and indicated that the remedial objectives have been achieved. The remedial objectives included upgrading the existing landfill cover to comply with state and federal standards, well closure, installation of monitoring wells, and monitoring of groundwater to ensure that contaminants within the landfill do not migrate off site. The remedial action clean-up activities are consistent with the objectives of the NCP and will provide protection to human health and the environment as specified in the ROD. The responsible parties are required to monitor the groundwater at five-year intervals in accordance with the Consent Decree, and the sampling results have shown that no contamination has migrated off site.

Operation and Maintenance

Long-term maintenance and groundwater monitoring is being conducted by Allied Products Corporation. The operation and maintenance activities being conducted include groundwater monitoring at five-year intervals, periodic inspections, maintenance of the landfill cover, and activities necessary to ensure the continued protection of public health and the environment. The groundwater sampling will continue to be conducted at five-year intervals for 30 years by Allied Products Corporation in accordance with the Consent Decree.

Five-Year Review

The CERCLA requires a five-year review of all sites with hazardous substances remaining above health-based levels for unrestricted use of the site. The clean up of this site has included containment of contaminants within the landfill which will require that the five-year reviews continue in order to ensure the maintenance of the integrity of the cap. The five-year review which was conducted in September 1999 indicated that the landfill cap is performing as designed and sampling results show that there has not been any migration of contaminants off site.

Community Involvement

A Community Relations Plan was completed for the site. The Proposed Plan and the Administrative Record were available for public review during the public comment period. A public meeting was held to present the Proposed Plan for the remedy and to answer questions and receive any written comments. A Record of Decision explaining the remedy for the site was signed by EPA on September 28, 1990.

Applicable Deletion Criteria/State Concurrence

Responsible parties or other persons have implemented all appropriate response actions required, as required in 40 CFR 300.425(e)(1)(i) for deletion of a site. All completion requirements for this site have been described in the Final Close-Out Report (COR). The Final COR documents the effectiveness of the post-remedial environmental monitoring and that the remedy remains protective. Site operation and maintenance activities will be performed by Allied Products Corporation as required by the Consent Decree. The state of Iowa has indicated their concurrence with the deletion of this site from the NPL. Therefore, EPA is proposing deletion of this site from the NPL. Documents supporting this action are available in the deletion docket.

Dated: August 15, 2000.
Karen A. Flournoy,
Acting Regional Administrator, Region VII.

[FR Doc. 00-22814 Filed 9-6-00; 8:45 am]

BILLING CODE 6560-50-P